DEPARTMENT OF AGRICULTURE

Agricultural Marketing Service

[Doc. No. AMS-SC-19-0103, SC-20-326]

Termination of U.S. Consumer Standards

AGENCY: Agricultural Marketing Service, USDA.

ACTION: Final notice.

SUMMARY: The Agricultural Marketing Service (AMS) of the Department of Agriculture (USDA) is terminating the following 10 U.S. Consumer Standards: The U.S. Consumer Standards for Italian Sprouting Broccoli, U.S. Consumer Standards for Fresh Carrots, U.S. Consumer Standards for Celery Stalks, U.S. Consumer Standards for Husked Corn on the Cob, U.S. Consumer Standards for Fresh Kale, U.S. Consumer Standards for Fresh Spinach Leaves, U.S. Consumer Standards for Brussels Sprouts, U.S. Consumer Standards for Fresh Parsnips, U.S. Consumer Standards for Fresh Turnips, and U.S. Consumer Standards for Beet Greens. This action is part of USDA's work to eliminate regulations that are outdated, unnecessary, ineffective, or impose costs that exceed benefits.

DATES: Applicable May 17, 2021.

FOR FURTHER INFORMATION CONTACT: David G. Horner, USDA, Specialty Crops Inspection Division, 100 Riverside Parkway, Suite 101, Fredericksburg, VA 22406; phone (540) 361-1120; fax (540) 361-1199; or, email Dave.Horner@usda.gov.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at http://www.ams.usda.gov/grades-standards. AMS is terminating these 10 U.S. consumer standards using the procedures that appear in part 36 of Title 7 of the Code of Federal Regulations (7 CFR part 36).

Background

AMS continually reviews all fruit and vegetable grade standards to ensure their usefulness to the industry, modernize language, and remove duplicative terminology. AMS identified 10 U.S. consumer standards that are not related to a current active marketing order, import regulation, or export act and are obsolete. The consumer standards were originally developed for re-packers and were never fully adopted by industry, which instead uses U.S. grade standards, which are revised regularly to reflect current industry practices. In September 2019, AMS sent letters to the Food Marketing Institute, Grocery Manufacturers Association, Produce Manufacturers Association, and United Fresh Produce Association to ask if the U.S. Consumer Standards referenced above were still used by their members. The response was unanimous in that these standards were no longer in use.

On October 28, 2020, AMS published a proposed notice to remove the referenced Consumer Standards in the Federal Register (85 FR 68285). Four comments were submitted. Three concurred with the proposal. One asked USDA to postpone the revision until after the new Administration takes office.

AMS has determined these consumer standards cause confusion within the industry due to their conflicting and outmoded grades and terminology. They are ineffective, unnecessary, and have become a burden to the U.S. and global produce industries. The comment presented no compelling reason to postpone terminating these consumer standards.

Therefore, AMS is terminating the following 10 U.S. consumer standards: U.S. Consumer Standards for Italian Sprouting Broccoli, U.S. Consumer Standards for Fresh Carrots, U.S. Consumer Standards for Celery Stalks, U.S. Consumer Standards for Husked Corn on the Cob, U.S. Consumer Standards for Fresh Kale, U.S. Consumer Standards for Fresh Spinach Leaves, U.S. Consumer Standards for Brussels Sprouts, U.S. Consumer Standards for Fresh Parsnips, U.S. Consumer Standards for Fresh Turnips, and U.S. Consumer Standards for Beet Greens. The elimination of these U.S. Consumer Standards will reduce obsolete information, lessen confusion in interpreting grade standards, and promote consistency within the industry.

Authority: 7 U.S.C. 1621-1627.

Bruce Summers,
Administrator, Agricultural Marketing Service.

[FR Doc. 2021-07819 Filed 4-15-21; 8:45 am]

BILLING CODE 3410-02-P